ENVIRONMENTAL PROTECTION AGENCY

[EPA-HQ-OW-2007-0357; FRL-8330-5]

Review of National Dredging Policy

AGENCY: Environmental Protection Agency (EPA).

ACTION: Notice; request for comments.

SUMMARY: On behalf of the National Dredging Team, the U.S. Environmental Protection Agency (EPA) is requesting comment on the National Dredging Policy and the National Dredging Team's 2003 Action Agenda for Dredged Material Management. The National Dredging Policy was developed by a Federal Interagency Working Group, which was convened by the U.S. Department of Transportation in the early 1990s to investigate and recommend methods to improve the dredging review process. The Group identified the need for a unified national dredging policy to guide in the development of recommendations and to focus Federal agency commitments. The findings and principles described in the National Dredging Policy have been embraced by the Group's participating agencies. The National Dredging Team (NDT), a Federal interagency group co-chaired by the EPA and the U.S. Army Corps of Engineers (USACE), published its Dredged Material Management: Action Agenda for the Next Decade in 2003. This Action Agenda lays out 22 recommended actions to guide the National Dredging Team and support implementation of the National Dredging Policy. At the request of the Cabinet-level Committee on the Marine Transportation System, the NDT is currently reviewing the National Dredging Policy, as well as the NDT's Action Agenda, to reaffirm their adequacy in support of the U.S. Marine Transportation System.

DATES: Comments must be received on or before August 6, 2007.

ADDRESSES: Submit your comments, identified by Docket ID No. EPA-HQ-OW-2007-0357, by one of the following methods:

• www.regulations.gov: Follow the on-line instructions for submitting comments.

• E-mail: OW-Docket@epa.gov, Attention Docket ID No. EPA-HQ-OW-2007-0357.

• Mail: Review of National Dredging Policy, Water Docket, EPA Docket Center, Environmental Protection Agency, Mailcode: 2822T, 1200 Pennsylvania Ave., NW., EPA West Room 3334, Washington, DC 20460.

• Hand Delivery: Water Docket, EPA Docket Center, Environmental Protection Agency, EPA West, Room 3334, 1301 Constitution Ave., NW., Washington, DC 20004, Attention Docket ID No. EPA-HQ-OW-2007-0357.

Instructions: Direct your comments to Docket ID No. EPA-HQ-OW-2007-0357. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Water Docket, EPA Docket Center, EPA West, Room 3334, 1301 Constitution Ave., NW., Washington, DC 20004. This Docket Facility is open from 8:30 a.m. to 4:30 p.m., Monday through Friday, excluding legal holidays. The Water Docket telephone number is 202-566-2426. The Public Reading Room is open from 8:30 a.m. to 4:30 p.m., Monday through Friday, excluding legal holidays. The telephone number for the Public Reading Room is (202) 566-1744, and the telephone number for the Water Docket is 202-566-2426.

FOR FURTHER INFORMATION CONTACT: Molly Madden, Oceans and Coastal Protection Division, Office of Wetlands, Oceans and Watersheds, (Mailcode: 4504T), Environmental Protection Agency, 1200 Pennsylvania Ave., NW., Washington, DC 20460; telephone number: (202) 566-1279; fax number: (202) 566-1546; e-mail address: madden.molly@epa.gov.

SUPPLEMENTARY INFORMATION:

I. General Information

A. Does This Action Apply to Me?

Entities potentially interested in today's notice are those who are involved with dredging for the purpose of navigation or are involved with waterborne commerce, including port authorities and environmental interest groups. Categories and examples of entities interested in today's notice include:

Category | Examples of interested entities
Federal Government | U.S. Army Corps of Engineers, Maritime Administration, U.S. Coast Guard, U.S. Navy, National Oceanic and Atmospheric Administration, Fish and Wildlife Service, U.S. Department of Agriculture, U.S. Geological Survey.
State/Local/Tribal Government | Governments involved in navigational dredging; port authorities; coastal communities.
Industry and General Public | Shippers, maritime interests, marinas, waterborne commerce groups, environmental interest groups.

This table is not intended to be exhaustive, but rather provides a guide for readers regarding entities likely to be interested in this notice. This table lists the types of entities that EPA is now aware could potentially be interested in this notice. Other types of entities not listed in the table could also be interested.

B. What Should I Consider as I Prepare My Comments?

1. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

Dredging is an important issue in the U.S. Marine Transportation System. Navigational dredging plays a key role in supporting the Marine Transportation System's effectiveness and reliability for the movement of people and commerce. In 1993, the Secretary of Transportation convened an Interagency Working Group on the Dredging Process to investigate and recommend actions to improve the dredging project review process. In December 1994, the Interagency Group delivered its report, The Dredging Process in the United States: An Action Plan for Improvement to the Secretary of Transportation. This report contained 18 recommendations, and proposed a National Dredging Policy and the formation of a National Dredging Team. The Group identified the need for a unified national dredging policy to guide in the development of recommendations and to focus Federal agency commitments. The Administration adopted the following findings and principles as a statement of National Dredging Policy. The findings are:

• A network of ports and harbors is essential to the United States' economy, affecting its competitiveness in world trade and national security. Port facilities serve as a key link in the intermodal transportation chain and can realize their full potential as magnets for shipping and commerce only if dredging occurs in a timely and cost-effective manner.

• The nation's coastal, ocean, and freshwater resources are critical assets which must be protected, conserved, and restored. These resources are equally important to the United States by providing numerous economic and environmental benefits.

• Consistent and integrated application of existing environmental statutes can protect the environment and can allow for sustainable economic growth.

• Close coordination and planning at all governmental levels, and with all aspects of the private sector, are essential to developing and maintaining the nation's ports and harbors in a manner that will increase economic growth and protect, conserve, and restore coastal resources.

• Planning for the development and maintenance of the nation's ports and harbors should occur in the context of broad transportation and environmental planning efforts such as the National Transportation System and the ecosystem/watershed management approach.

The principles are:

• The regulatory process must be timely, efficient, and predictable, to the maximum extent practicable.

• Advanced dredged material management planning must be conducted on a port or regional scale by a partnership that includes the Federal government, the port authorities, state and local governments, natural resource agencies, public interest groups, the maritime industry, and private citizens. To be effective, this planning must be done prior to individual Federal or non-Federal dredging project proponents seeking individual project approval.

• Dredged material managers must become more involved in watershed planning to emphasize the importance of point and non-point source pollution controls to reduce harbor sediment contamination.

• Dredged material is a resource, and environmentally-sound beneficial use of dredged material for such projects as wetland creation, beach nourishment, and development projects must be encouraged.

The findings and principles were embraced by all of the Group's participating agencies. The Federal agencies committed themselves to the fulfillment of these principles.

In 2001, the National Dredging Team convened a stakeholder workshop to assess progress on the 1994 report's 18 recommendations and identify actions that could address issues impacting dredging and dredged material management for the foreseeable future. The result is the National Dredging Team's 2003 Dredged Material Management: Action Agenda for the Next Decade (2003 Action Agenda), which supersedes the 1994 report. The 2003 Action Agenda contains the National Dredging Policy and 22 recommendations to assist the National Dredging Team in implementing the National Dredging Policy. The National Dredging Team continues to be guided by the 2003 Action Agenda and is actively addressing these recommendations, many of which require ongoing activity. The recommendations in the 2003 Action Agenda fall into four themes: beneficial use of dredged material, sediment management, strengthening Regional Dredging Teams, and emerging issues. The National Dredging Team recognizes that additional issues may have emerged since publication of the 2003 Action Agenda.

The goals of the National Dredging Team, which is a Federal interagency group co-chaired by the U.S. Environmental Protection Agency and U.S. Army Corps of Engineers, are to facilitate communication, coordination, and resolution of dredging issues among the participating Federal agencies and to serve as a forum for promoting the implementation of the National Dredging Policy and the recommendations in the National Dredging Team's Action Agenda. The National Dredging Policy and the 2003 Action Agenda can be found at http://www.epa.gov/owow/oceans/ndt/.

III. Today's Action

Today's notice announces the review of the National Dredging Policy and the National Dredging Team's 2003 Action Agenda. The interagency, Cabinet-level Committee on the Marine Transportation System requested that the National Dredging Team review the National Dredging Policy (and the National Dredging Team's 2003 Action Agenda) to reaffirm their adequacy in support of the U.S. Marine Transportation System. As a key element in the U.S. Ocean Action Plan, the Committee on the Marine Transportation System has been directed by the President to improve federal Marine Transportation System coordination and policies, and recommend strategies and plans for improvement. Dredging is an important issue in the Marine Transportation System. The Committee on the Marine Transportation System looks upon dredging as supporting the Marine Transportation System's effectiveness and reliability regarding the movement of people and commerce. Therefore, the Committee on the Marine Transportation System requested the National Dredging Team take this action on its behalf. Implementation of the National Dredging Policy is promoted by the National Dredging Team, which is leading this review through its co-chairs, the U.S. Environmental Protection Agency and the U.S. Army Corps of Engineers. The National Dredging Policy provides a national, unified policy for navigational dredging and focuses Federal agency commitments. Reviewing this Policy and the National Dredging Team's 2003 Action Agenda provides an opportunity to assess our progress in addressing the issues impacting dredging and dredged material management. As part of its review, the National Dredging Team will consider the public comments submitted in response to this notice. As part of the National Dredging Team's review to reaffirm the adequacy of the Policy and 2003 Action Agenda, the National Dredging Team will consider whether it should revise the Policy or publish an Addendum to the 2003 Action Agenda, updating the Action Agenda as appropriate. If the National Dredging Team develops any revisions to the National Dredging Policy or any Addendum to the 2003 Action Agenda, EPA would intend to publish a Federal Register notice requesting comment on such revisions or addenda.

Dated: June 14, 2007.
Benjamin H. Grumbles,
Assistant Administrator for Water.

[FR Doc. E7-12157 Filed 6-21-07; 8:45 am]

BILLING CODE 6560-50-P